DEPARTMENT OF HEALTH AND HUMAN SERVICES

Senior Executive Service; Performance Review Board Members

AGENCY: Department of Health and Human Services.

ACTION: Notice.

SUMMARY: Title 5, U.S. Code, Section 4314(c)(4) of the Civil Service Reform Act of 1978, Public Law 95-454, requires that appointment of Performance Review Board members be published in the Federal Register.

FOR FURTHER INFORMATION CONTACT: Andrea Burckman, Office of Human Resources, Department of Health and Human Services, 200 Independence Avenue SW., Washington, DC 20201, telephone 202-690-6528.

SUPPLEMENTARY INFORMATION: The following persons may serve on a Performance Review Board, which oversees the evaluation of performance appraisals of Senior Executive Service members throughout the Department of Health and Human Services. (list attached)

Dated: October 5, 2005.
Joe Ellis,
Deputy Assistant Secretary for Administration and Management.

Department of Health and Human Services

Performance Review Board

Russell Abbott, Director, Office of Management

Ann Agnew, Executive Secretary to the Department

John Aguirre, Director, Administrative Operations Service

John Agwunobi, Senior Advisor to the Secretary

Kathleen Annette, Director, Bemidji Area

Carol Arbogast, Executive Leader (Human Resource Systems)

Gale Arden, Director, Disabled and Elderly Health Programs Group

Joseph Autry, Senior Associate for Medical Affairs

Jane Axelrad, Associate Director for Policy

Lawrence Bachorik, Senior Advisor for International Policy and Communications

Gary Bailey, Deputy Director for Plan Policy and Operations

Colleen Barros, Deputy Director for Management

Lisa Barsoomian, Deputy Associate General Counsel for Claims and Employment Law

Robert Baughman, Director, Division of Fundamental Neurosciences

Margaret Bean, Deputy Director, Office of Child Support Enforcement

Catherine Beck, Associate Director for Policy and Executive Programs

Larry Bedker, Director Financial Management Service

Carol Bennett, Deputy Associate General Counsel for Program Integrity

David Benor, Associate General Counsel, Public Health

Susan Bernard, Associate Director for Regulations

Joyce Berry, Director Division of State and Community Systems Development

Douglas Black, Associate Director for Tribal Activities

Robert Blitzer, Deputy Assistant Secretary for Planning and Emergency Response Coordination

Abby Block, Director, Center for Beneficiary Choices

Stephen Blount, Associate Director for Global Health

Eric Blumberg, Deputy Associate General Counsel for Litigation Food and Drug Division

Susan Bond, Director Scientific Policy Development

Julie Boughn, Director, Information Services Modernization Group

Sheldon Bradshaw, Associate General Counsel, Food and Drug Division

David Brailer, National Health Information Technology Coordinator

Marcia Brand, Director Office of Rural Health Policy

Kimberly Brandt, Director, Program Integrity Group

William Breithaupt, Associate Director for Management and Operations

Barbara Broman, Deputy to the Deputy Assistant Secretary for Planning and Evaluation (Human Services Policy)

Charlene Brown, Deputy Chief Operating Officer

Gary Buehler, Director Office of Generic Drugs

William Burel, Chief Management Officer

Maurice Burg, Chief, Laboratory of Kidney and Electrolyte Metabolism

Jamie Burke, White House Liaison for Political Personnel, Boards and Commissions

Francis Burns, Deputy Assistant Secretary for Wellness and Community-Based Services

Jeremy Burton, Deputy Assistant Secretary for Legislation (Planning and Budget)

David Cade, Deputy General Counsel

Richard Campanelli, Director Office for Civil Rights

Galen Carver, Chief Management Officer, Office of Terrorism Preparedness and Emergency Response

Lester Cash, Director, Division of Discretionary Programs

Glenn Chaney, Director, Accounting Management Group, Office of Financial Management

Robert Chatfield, Director, Human Resources Accountability and Technology Division

Laura Cheever, Deputy Associate Administrator, HIV/AIDS Bureau

Philip Chen Jr., Senior Advisor to Deputy Director for Intramural Research

Michaele Christian, Associate Director, Cancer Therapy Evaluation Program

Don Christoferson, Associate Director for Administrative Management

H. Westley Clark, Director, Center for Substance Abuse Treatment

James Cohen, Associate Director for Compliance and Biologic Quality

Lois Cohen, Associate Director for International Health

Janet Collins, Deputy Director, Center for Chronic Disease Prevention and Health Promotion

Timothy Condon, Deputy Director, National Institute on Drug Abuse

Cecil Conway Jr., Director, Billings Area

Jeffrey Cooper, Director, Office of Information Technology Shared Services

Milton Corn, Associate Director for Extramural Programs

Curtis Coy, Deputy Assistant Secretary for Administration

John Daugherty, Director, Oklahoma Area

Beverly Davis, Director, Center for Substance Abuse Prevention

Don Davis, Director, Phoenix Area Office

Jeffrey Davis, Associate General Counsel, General Law Division

Diann Dawson, Director, Regional Operations

Robert Delaney, Special Advisor for Policy

Avis Dickey, Chief Management Officer, Office of Workforce and Career Development

Gregory Doyle, Chief of Shared Services

Carl Draper, Director of Compliance

Yvonne DuBuy, Associate Director for Management

Elizabeth Duke, Administrator, Health Resources and Services Administration

Carlton Duncan, Deputy Chief Operating Officer

David Dwyer, Director, Office of Real Property Services

John Dyer, Chief Operating Officer

Gary Dykstra, Regional Food and Drug Director, Southeast Region

Phyllis Eddy, Deputy Director for Management Operations

Brenda Edwards, Associate Director, Surveillance Research Program

Robert Eiss, Senior Advisor for Strategic Initiatives

Joe Ellis, Assistant Secretary for Administration and Management

Joseph Ellis, Director, Office of Policy for Extramural Research

Leon Ellwein, Associate Director for Applications of Vision Research

James Farris Jr., Dallas Regional Administrator

Linda Fishman, Director, Office of Legislation

J. Fitzmaurice, Senior Science Advisor for Information Technology

William Fitzsimmons, Executive Officer, National Institute of Mental Health

Jeffrey Flick, San Francisco Regional Administrator

Catherine Flickinger, Director, Office of Information Technology and Chief Information Officer

Ashley Flory, Deputy Executive Secretary

Cecilia Ford, Chairperson, Departmental Appeals Board

Richard Foster, Director, Office of the Actuary

Leslye Fraser, Associate Director of Regulations

Diane Frasier, Director, Office of Contracts Management

Robinsue Frohboese, Principal Deputy Director

Frank Fuentes Jr., Deputy Commissioner, Administration for Children, Youth and Families

Sharon Fujii, Regional Hub Director

Gayla Fuller, Chief Counsel, Region VI

Wallace Fung, Deputy Director (Technology)

Jacqueline Garner, Chicago Regional Administrator

Kay Garvey, Director, Office of Communications

Edward Gendron, Director, Finance Systems and Budget Group

Denise Geolot, Director, Division of Nursing

Julie Gerberding, Director, Center for Disease Control and Prevention Administration

Margaret Giannini, Director, Office of Disability

Lillian Gill, Senior Associate Director Center for Devices and Radiological Health

William Gimson, Chief Operating Officer

Margaret Glavin, Associate Commissioner for Regulatory Affairs

Alma Golden, Deputy Assistant Secretary for Population Affairs

Naomi Goldstein, Director, Office of Planning, Research and Evaluation

Julie Goon, Director of Medicare Outreach and Special Advisor to the Secretary

Maureen Gormley, Chief Operating Officer

Scott Gottlieb, Deputy Commissioner for Policy

Bruce Granger, Chief Counsel, Region IV

Karen Groux, Director, Atlanta Human Resources Center

Thomas Gustafson, Deputy Director, Center for Medicare Management

William Hall, Director News Division

John Hallenbeck, Chief, Stroke Branch

Thomas Hamilton, Director, Survey and Certification Group

Nguyen VanHanh, Director, Office of Refugee Resettlement

Carrie Hanley, Assistant Commissioner for Management

Eric Hargan, Deputy General Counsel—Regulation

Carl Harper, Director, Resource Access and Partners

Kathleen Harrington, Director, Office of External Affairs

Barbara Harris, Chief Financial Officer

John Hartinger, Associate Director for Budget and Financial Management

Florence Haseltine, Director, Center for Population Research

Steven Hausman, Deputy Director, National Institute of Arthritis and Musculoskeletal and Skin Diseases

Charles Havekost, Deputy Assistant Secretary for Information Resources Management and Chief Information Officer

Dana Haza, Director, Commission on Systemic Interoperability

Lynn Hellinger, Director of Management

Deborah Henderson, Senior Advisor

Rosemarie Henson Steele, Director

Kathleen Heuer, Associate Commissioner for Management

Mary Ann Higgins, Regional Hub Director

Timothy Hill, Director, Office of Financial Management

John Hoff, Health Attaché—Paris

Thomas Hooven, Associate Director for Administration

Helen Horn, Senior Advisor for Strategic Planning

Mary Horner, Director, Office Minority Health

David Horowitz, Director Office of Compliance

Robert Hosenfeld, Deputy Assistant Secretary for Human Resources

Sharon Hrynkow, Deputy Director, Fogarty International Center

John Hubbard Jr., Director, Navajo Area

Betsy Humphreys, Deputy Director, National Library of Medicine

Edward Hunter, Associate Director for Planning, Budget and Legislation

Clarence Huntley, Director Information Technology Service Center

Terry Hurst, Director, Program Management Office

Hugh Hurwitz, Director, Office of Acquisitions and Grants Services

Karen Jackson, Director, Medicare Contractor Management Group

Richard Jackson, Senior Advisor to the Director at the Centers for Disease Control and Prevention

David Jacobowitz, Chief, Section on Histopharmacology

John Jarman, Executive Officer

Sharon Jenkins, Executive Officer

Walter Jones, Deputy Director for Management and Operations

Wanda Jones Deputy Assistant Secretary (Women's Health) and Director, Women's Health

Maria Joyce, Director, Division of Financial Operations

Daryl Kade, Associate Administrator for Policy and Programs Coordinator

Linda Kahan, Deputy Director, Center for Devices and Radiological Health

John Kalavritinos, Director of Intergovernmental Affairs

Ruth Katz, Deputy to Deputy Assistant Secretary for Planning and Evaluation (Disability, Aging and Long Term Care Policy)

Gary Kavanagh, Director, Business Standards and Systems Operations Group

Robert Keith, Associate General Counsel Children, Family and Aging Division

Miriam Kelty, Director, Office of Extramural Affairs

Kathleen Kendrick, Deputy Director

Judith Kenny, Director, Information Technology Services

James Kerr, New York Regional Administrator

Roxane Kerr, Associate Director for Management

William Kerr, Associate Director for Administration

Margo Kerrigan, Director, California Area

Thomas Kickham, Director of Beneficiary Services and Partnership Group

Terris King, Deputy Director, Office of Clinical Standards and Quality

Ruth Kirschstein, Senior Advisor to the Director, National Institutes of Health

Andrew Knapp, Senior Advisor to the Administrator

Paula Kocher, Deputy Associate General Counsel for Public Health

Diana Kolaitis, Regional Food and Drug Director, Northeast Region

Richard Kopanda, Deputy Director, Center for Substance Abuse Treatment

Jack Kress, Executive Director of Advisory Committee

Herbert Kuhn, Director Center for Medicare Management

Lisa Lacasse, Chief Financial Officer

Michael Landa, Deputy Director for Regulatory Affairs

Crayton Lankford Jr., Chief Management Officer, Office of Global Health

Mary Laureno, Director, Beneficiary Information Services Group

Laura Lawlor, Counselor for Public Health and Science

Donald Lee, Director, Aberdeen Area

Thomas Lenz, Kansas City Regional Administrator

Caroline Lewis, Deputy Associate Administrator

Michel Lincoln, Executive Advisor to the Director

Simon Liu, Director, Information Systems

Stephen Long, Associate Director for Administration

Keith Longie, Director, Office of Information Technology

Timothy Love, Director, Office of Research, Development, and Information

Daryl Lucas, Acting Director, Rockville Human Resources Center

Ernest Lunsford Jr., Director, White Oak Consolidation Program

George Lyon, Senior Advisor to the General Counsel

Stacie Maass, Executive Director of Medicaid Commission

Patricia Mackey, Director, Office of Equal Opportunity and Civil Rights

James Macrae, Director, Office of Performance Review

Mary Anne Malarkey, Director, Office of Compliance

Diane Maloney, Associate Director for Policy

Christophe Mandregan Jr., Director, Alaska Area

Teri Manolio, Director, Epidemiology and Biometry Program

Kathleen Marconi, Director, Office of Science and Epidemiology

Michael Marron, Associate Director for Biomedical Technology

Anna Marsh, Executive Officer

Michael Martin, Director, Division of Physiological Systems

Ruth Martin, Chief Management Officer

John Marzilli, Deputy Associate Commissioner for Regulatory Affairs

Leon McCowan, Regional Hub Director

Barbara McGarey, Deputy Associate General Counsel for Public Health (National Institutes of Health)

Patrick McGarey, Director, Office of Budget Formulation and Presentation

Kathleen McGuan, Associate General Counsel

Richard McKeown, Chief of Staff

Michael McMullan, Deputy Director for Beneficiary Services

Sidney McNairy Jr., Associate Director for Research Infrastructure

Lore Anne McNicol, Director, Division of Extramural Research

Merle McPherson, Director, Division of Services for Children with Special Health Needs

Regina McPhillips, Director, Beneficiary Education and Analysis Group

Robert McSwain, Deputy Director, Indian Health Service

Reginald Mebane, Chief Management Officer

Barbara Merchant, Associate Director for Management

David Mesterharm, Director, Office of Information Services (Chief Information Officer)

Richard Millstein, Senior Advisor and Counselor for Special Initiatives

Allan Mirsky, Chief, Section on Clinical and Experimental Neuropsychology

Madeline Mocko, Director, Office of Legislative Affairs and Budget

Jess Montes, Senior Advisor for Special Initiatives

Douglas Morgan, Director, Division of Service Systems

Charles Morris, Director, Center for Faith Based and Community Initiatives

Willis Morris, Senior Advisor to the Assistant Secretary of Health

Marcelle Morrison-Bogorad, Director of Neuroscience and Neuropsychology of Aging Program

Patricia Morrissey, Commissioner, Administration on Developmental Disabilities

Theresa Mullin, Assistant Commissioner for Planning

Solomon Mussey, Supervisory Actuary

David Naimon, Deputy Associate General Counsel for Public Health

Jon Nelson, Deputy Associate Administrator

William Nichols, Director, Procurement and Grants Office

Geraldine Nicholson, Director, Provider Communications

Stuart Nightingale, Director, Office of Medical, Science and Public Health

Marshall Nirenberg, Chief, Laboratory of Biochemical Genetics

Robert Noonan, Director, Office of Competitive Sourcing

Leslie Norwalk, Deputy Administrator

Scott Nystrom, Executive Director

Nancy O'Connor, Philadelphia Regional Administrator

Susan Orr, Associate Commissioner, Children's Bureau

Brent Orrell, Deputy Assistant Secretary for Policy and External Affairs

Karen O'Steen, Director, Office of Operations Management and Chief Administrative Officer

Laura Ott, Deputy Assistant Secretary for Legislation (Human Services)

Gerald Parker, Deputy Assistant Secretary for Management

Delores Parron, Scientific Advisor for Capacity Development

Elaine Parry, Director of Special Initiatives

Roger Parvin, Chief Management Officer

Christophe Pascal, Director, Office of Research Initiatives

Dalton Paxman, Regional Health Administrator

Christina Pearson, Deputy Assistant Secretary Public Affairs (Media)

Patricia Pearson, Director, Baltimore Human Resources Center

Steven Pelovitz, Deputy Associate Administrator, Maternal and Child Health Bureau

Audrey Penn, Deputy Director, National Institute of Neurological Disorders and Stroke

Wesley Perich, Director, Budget Analysis Group

Martha Pine, Associate Director for Administration and Operations

Vivian Pinn, Associate Director, Research on Women's Health

Melinda Plaisier, Assistant Commissioner for International Programs

Diane Porter, Deputy Director for Management

William Porter, Chief Security Officer

Robert Post, Chief Biological Psychiatry Branch

Elliot Postow, Director, Division of Biologic Basis of Disease

A. Kathryn Power, Director, Center for Mental Health Services

Douglas Pruett, Director of Security/Drug Testing

Alan Rabson, Deputy Director, National Cancer Institute

Deborah Ralston, Director, Office of Regional Operations

Louise Ramm, Deputy Director, National Center for Research Resources

William Raub, Principal Deputy Assistant Secretary for Public Health Emergency Preparedness

Thomas Reilly, Principal Deputy Assistant Secretary (Budget, Technology and Finance)

Elizabeth Richter, Director, Hospital and Ambulatory Policy Group

Josephine Robinson, Director, Office of Community Services

Patrick Ronan, Associate Commissioner for Legislation

Laura Rosenthal, Associate Director for Management and Operations

Roy Ruff, Seattle Regional Admin

Neil Sampson, Deputy Associate Administrator

Taylor Satala, Director, Tucson Area

Mark Scally, Associate Director for Management and Operations

James Scanlon, Deputy Assistant Secretary

Daniel Schneider, Principal Deputy Assistant Secretary

Donald Schneider, Director, Division of Molecular and Cellular Mechanisms

Edward Searle, Deputy Director

Lawrence Self, Director, Office of Equal Opportunity

James Seligman, Chief Information Officer

Susan Setterberg, Regional Food and Drug Director, Central Region

Karen Shebesh, Chief Management Officer

Jean Sheil, Director, Family and Children's Health Programs Group

Donald Shriber, Associate Director, Washington

Elliot Siegel, Associate Director for Health Information Programs Development

Stewart Simonson, Assistant Secretary for Public Health Emergency Preparedness

Jean Slutsky, Director, Center for Outcomes and Evidence

Dennis Smith, Director, Center for Medicaid State Operations

Patricia Smith, Director, Medicare Advantage Group

Stephen Smith, Special Assistant to the Administrator

Marc Smolonsky, Associate Director for Legislative Policy Analysis

Anna Snyder, Director, Office of Special Programs

Edward Sontag, Policy Program Management Officer

Anita Miller Sostek, Director, Division of Clinical and Population-Based Studies

Philip Spiller, Director, Office of Seafood

Sidonie Squier, Director, Office of Family Assistance

William Stamper, Deputy Assistant Secretary for Facilities Management and Policy

Paula Stannard, Deputy General Counsel—Program Review

Mary Stanton, Deputy Director for Indian Health

Edward Stehmeyer Jr., Director, Facility Planning and Management Office

William Steiger, Director, Office of Global Health

Kenneth Stith, Director, Office of Financial Management

James Stone, Deputy Administrator, Substance and Mental Health Services Administration

Ellen Stover, Director, Division of Mental Disorders, Behavioral Research and Acquired Immunodeficiency Syndrome

James Strachan, Director, Office of Resource Management

George Strader Jr., Deputy Assistant Secretary for Finance

Stewart Streimer, Director, Provider Billing Group

Richard Suzman, Director of Behavioral and Social Research Program

Edgar Swindell, Associate General Counsel

Sheila Taube, Associate Director, Cancer Diagnosis Program

Deborah Taylor, Deputy Director, Office of Financial Management

John Teeter, Information Technology Enterprise Architect

Dianne Thomas, Deputy Director, Office of Human Resources

Joyce Thomas, Regional Hub Director

Nancy Thompson, Director, Medicare Hearings and Appeals Transition

John Tibbs, Financial Manager

James Toya, Director, Albuquerque Area

Brenda Tranchida, Deputy Director Employer Policy and Operations Group

Anthony Trenkle, Director, Office of E-Health Standards and Services

Alexander Trujillo, Denver Regional Administrator

Richard Turman, Deputy Assistant Secretary for Budget

Timothy Ulatowski, Director, Office of Compliance

Mary Lou Valdez, Deputy Director for Policy, Office of Global Health Affairs

Ronald Valdiserri, Deputy Director

Peter Van Dyck, Associate Administrator for Maternal and Child Health Bureau

Joseph Vanlandingham, Deputy Assistant Secretary for Program Support

Martha Vaughan, Chief Metabolic Regulation Section

Terrell Vermillion, Director Office Criminal Investigations

Francis Vocci Jr., Director, Medication Development

Linda Vogel, Senior Public Health Advisor

Sheila Walcoff, Associate Commissioner for External Relations

Edwin Walker, Deputy Assistant Secretary for Policy and Programs

Frederick Walker, Associate Director for Management

Sondra Wallace, Associate General Counsel

Gerald Walters, Director, Financial Services Group

Kenneth Warren, Director, Office of Scientific Affairs

Rueben Warren, Associate Administration for Urban Affairs

Richard Waterman, Chief Counsel

Mark Weber, Associate Administration for Communications

Kerry Weems, Deputy Chief of Staff

Michael Weinrich, Director, National Center for Medical Rehabilitation Research

Donna Weinstein, Chief Counsel

Marc Weisman, Director, Office of Acquisition Management

Jacquelyn White, Director, Office of Strategic Operations and Regulatory Affairs

Donalda Wilder, Director Portland Area

Carlis Williams, Regional Hub Director

Dennis Williams, Deputy Administrator, Health Resources and Services Administration

Paula Williams, Director, Tribal Self-Governance

Harry Wilson, Associate Commissioner, Family and Youth Services Bureau

Laurence Wilson, Director, Chronic Care Policy Group

Helen Winkle, Director, Office of Pharmaceutical Science

Ann Wion, Deputy Chief Counsel, Program Review

Edwin Woo, Associate General Counsel

Charlotte Yeh, Boston Regional Administrator

David Young, Deputy Director for Management Operations

Donald Young, Principal Deputy Assistant Secretary

Samir Zakhari, Director, Division of Basic Research

Howard Zucker, Deputy Assistant Secretary for Health (Science, Technology, and Medicine)

Phyllis Zucker, Director, Policy Coordination, Executive Secretariat and Departmental Liaison

[FR Doc. 05-20475 Filed 10-12-05; 8:45 am]

BILLING CODE 5150-04-M